DEPARTMENT OF COMMERCE

National Oceanic and Atmospheric Administration

[RTID 0648-XB038]

Western Pacific Fishery Management Council; Public Meetings

AGENCY: National Marine Fisheries Service (NMFS), National Oceanic and Atmospheric Administration (NOAA), Commerce.

ACTION: Notice of a public meeting.

SUMMARY: The Western Pacific Fishery Management Council (Council) will hold a meeting of the Pacific Pelagic Fishery Ecosystem Plan (FEP) Plan Team (PT) to discuss fishery management issues and develop recommendations to the Council for future management of pelagic fisheries in the Western Pacific region.

DATES: The Pelagic PT will be held on May 11-13, 2021. For specific times and agendas, see SUPPLEMENTARY INFORMATION.

ADDRESSES: The meeting will be held by web conference. Audio and visual portions of the web conference can be accessed at: https://wprfmc.webex.com/wprfmc/onstage/g.php?MTID=eadc1543cd417b9605999017552a1e3c0. Event number (if prompted): 133 795 8239. Event password (if prompted): PFEPt0511. Web conference access information will also be posted on the Council's website at www.wpcouncil.org. For assistance with the web conference connection, contact the Council office at (808) 522-8220.

FOR FURTHER INFORMATION CONTACT: Kitty M. Simonds, Executive Director, Western Pacific Fishery Management Council; telephone: (808) 522-8220.

SUPPLEMENTARY INFORMATION: The Pelagic PT meeting will be held on May 11-13, 2021, and run each day from 1 p.m. to 5 p.m. Hawaii Standard Time (HST) (12 p.m. to 4 p.m. Samoa Standard Time (SST); 9 a.m. to 1 p.m. on May 12-14, 2021, Chamorro Standard Time (ChST)). Public comment periods will be provided in the agenda. The order in which agenda items are addressed may change. The meetings will run as late as necessary to complete scheduled business.

Agenda for the Pelagic Plan Team Meeting

Tuesday, May 11, 2021, 1 p.m. to 5 p.m. HST (12 p.m. to 4 p.m. SST; Wednesday, May 12, 2021, 9 a.m.-1 p.m. ChST)

1. Welcome and Introductions

2. Approval of draft agenda

3. Review 2020 Annual SAFE Report Modules

A. Fishery Data Modules

i. American Samoa

ii. CNMI

iii. Guam

iv. Hawaii

v. International

vi. Recreational/Non-Commercial Fisheries

vii. Fishery Observations

4. Public Comment

Wednesday, May 12, 2021, 1 p.m. to 5 p.m. HST (12 p.m. to 4 p.m. SST; Thursday, May 13, 2021, 9 a.m.-1 p.m. ChST)

5. Continued: Review 2020 Annual SAFE Report Modules

B. Ecosystem Chapter

i. Environmental & Climate Variables

ii. Habitat section

iii. Marine Planning section

iv. Socioeconomics section

v. Protected Species

6. SAFE Report Discussion

A. 2020 Report Region Wide Improvements & Recommendations

B. Other SAFE Report Matters

7. Standardized Bycatch Reporting Methodology in Pelagic FEP

8. Factors Contributing to Observed Sea Turtle Mortalities in the Hawaii Shallow-set Longline Fishery

9. Alia, Longline, and Small Boat Fishery Performance Since American Samoa Large Vessel Prohibited Area Modification

10. Public Comment

Thursday, May 13, 2021, 1 p.m. to 5 p.m. HST (12 p.m. to 4 p.m. SST; Friday, May 14, 2021, 9 a.m.-1 p.m. ChST)

11. 2022 US Territorial Bigeye Tuna Catch and Allocation Limits

12. Prohibition of Wire Leaders in Hawaii Longline Fisheries

A. Monte Carlo Analyses of Hawaii Deep-Set and Western and Central Pacific Longline Fisheries

B. Regulatory Amendment and Effects Analyses

13. Updates of the Oceanic Whitetip Shark Working Group

14. MSA 304(i) Obligations for WCPO Silky Sharks

15. Discussion: Research Needs for Western Pacific Region Small Pelagics & Management

16. Progress on Implementing Electronic Reporting in Hawaii and American Samoa Longline Fisheries

17. Public Comment

18. Pelagic Plan Team Recommendations

19. Other Business

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: April 19, 2021.
Tracey L. Thompson,
Acting Deputy Director, Office of Sustainable Fisheries, National Marine Fisheries Service.

[FR Doc. 2021-08434 Filed 4-22-21; 8:45 am]

BILLING CODE 3510-22-P